ENVIRONMENTAL PROTECTION AGENCY

[FRL-9780-2]

Integrated Science Assessment for Ozone and Related Photochemical Oxidants

AGENCY: Environmental Protection Agency (EPA).

ACTION: Notice of availability.

SUMMARY: The EPA is announcing the availability of a final document titled, “Integrated Science Assessment for Ozone and Related Photochemical Oxidants” (EPA/600/R-10/076F). The document was prepared by the National Center for Environmental Assessment within EPA's Office of Research and Development as part of the review of the national ambient air quality standards (NAAQS) for ozone.

DATES: The document will be available on February 15, 2013.

ADDRESSES: The “Integrated Science Assessment for Ozone and Related Photochemical Oxidants” will be made available primarily through the Internet on the National Center for Environmental Assessment's home page under the Recent Additions and Publications menus at http://www.epa.gov/ncea. A limited number of CD-ROM or paper copies will be available. Contact Ms. Marieka Boyd by phone (919-541-0031), fax (919-541-5078), or email (boyd.marieka@epa.gov) to request either of these, and please provide your name, your mailing address, and the document title, “Integrated Science Assessment for Ozone and Related Photochemical Oxidants” (EPA/600/R-10/076F) to facilitate processing of your request.

FOR FURTHER INFORMATION CONTACT: For technical information, contact Dr. James Brown, NCEA; telephone: 919-541-0765; facsimile: 919-541-1818; or email: Brown.James@epa.gov.

SUPPLEMENTARY INFORMATION:

Background

Section 108(a) of the Clean Air Act directs the Administrator to identify certain pollutants which, among other things, “cause or contribute to air pollution which may reasonably be anticipated to endanger public health or welfare” and to issue air quality criteria for them. These air quality criteria are to “accurately reflect the latest scientific knowledge useful in indicating the kind and extent of all identifiable effects on public health or welfare which may be expected from the presence of [a] pollutant in the ambient air * * *. ” Under section 109 of the Act, EPA is then to establish NAAQS for each pollutant for which EPA has issued criteria. Section 109(d) of the Act subsequently requires periodic review and, if appropriate, revision of existing air quality criteria to reflect advances in scientific knowledge on the effects of the pollutant on public health or welfare. EPA is also to periodically review and, if appropriate, revise the NAAQS, based on the revised air quality criteria.

Ozone (O3) is one of six principal (or “criteria”) pollutants for which EPA has established NAAQS. Periodically, EPA reviews the scientific basis for these standards by preparing an Integrated Science Assessment (ISA) (formerly called an Air Quality Criteria Document). The ISA provides a concise review, synthesis, and evaluation of the most policy-relevant science to serve as a scientific foundation for the review of the NAAQS. The Clean Air Scientific Advisory Committee (CASAC), an independent science advisory committee whose existence and whose review and advisory functions are mandated by Section 109(d)(2) of the Clean Air Act, is charged (among other things) with independent scientific review of EPA's air quality criteria.

On September 29, 2008 (73 FR 56581), EPA formally initiated its current review of the air quality criteria for ozone, requesting the submission of recent scientific information on specified topics. A draft of EPA's ”Integrated Review Plan for the Ozone National Ambient Air Quality Standards Review” (EPA/452/P-09/001) was made available in September 2009 for public comment and was discussed by the CASAC Ozone Review Panel (CASAC panel) via a publicly accessible teleconference consultation on November 13, 2009 (74 FR 54562). In August 2010, EPA held a workshop to discuss, with invited scientific experts, initial draft materials prepared in the development of the ISA (75 FR 42085). The first external review draft ISA for Ozone and Related Photochemical Oxidants was released on March 4, 2011 (http://cfpub.epa.gov/ncea/isa/recordisplay.cfm?deid=217463). The CASAC panel met at a public meeting on May 19, 2011, to review the draft ISA (76 FR 23809). Subsequently, on August 10, 2011, the CASAC panel provided a consensus letter for their review to the Administrator of the EPA (http://yosemite.epa.gov/sab/sabproduct.nsf/4620a620d0120f93852572410080d786/45A59F1BC8912FEE852578E80066021C/$File/EPA-CASAC-11-009-unsigned.pdf). The second external review draft ISA for Ozone and Related Photochemical Oxidants was released on September 30, 2011 (http://cfpub.epa.gov/ncea/isa/recordisplay.cfm?deid=226363). The CASAC panel met at a public meeting on January 9, 2012, to review the draft ISA (76 FR 76725). Subsequently, on March 13, 2012, the CASAC panel provided a consensus letter for their review to the Administrator of the EPA (http://yosemite.epa.gov/sab/sabproduct.nsf/4620a620d0120f93852572410080d786/1336B2B88034AEB6852579C0007070CA/$File/EPA-CASAC-12-004-unsigned.pdf).

The third external review draft ISA for Ozone and Related Photochemical Oxidants was released on June 19, 2012 (http://cfpub.epa.gov/ncea/isa/recordisplay.cfm?deid=242490). The CASAC panel met at a public meeting on September 11, 2012, to review the draft ISA (77 FR 46755). Subsequently, on November 14, 2012, the CASAC panel provided a consensus letter for their review to the Administrator of the EPA (http://yosemite.epa.gov/sab/sabproduct.nsf/4620a620d0120f93852572410080d786/60C2732674A5EEF385257AB6007274B9/$File/EPA-CASAC-13-001+unsigned.pdf).

EPA has considered comments by the CASAC panel and by the public in preparing this final ISA.

Dated: January 24, 2013.
Debra B. Walsh,
Acting Director, National Center for Environmental Assessment.

[FR Doc. 2013-03471 Filed 2-14-13; 8:45 am]

BILLING CODE 6560-50-P